NUCLEAR REGULATORY COMMISSION

[Docket No. 52-027 and 52-028; NRC-2008-0441]

South Carolina Electric and Gas Acting for Itself and as an Agent for South Carolina Public Service Authority (Also Referred to as Santee Cooper) Notice of Availability of the Draft Environmental Impact Statement for the Combined Licenses for Virgil C. Summer Nuclear Station, Units 2 and 3

Notice is hereby given that the U.S. Nuclear Regulatory Commission (NRC) and the U.S. Army Corps of Engineers, Charleston District (USACE), have published NUREG-1939, “Draft Environmental Impact Statement for the Combined Licenses (COLs) for Virgil C. Summer Nuclear Station, Units 2 and 3: Draft Report for Comment.” The site for the proposed new nuclear units is located in Fairfield County, South Carolina, on the Broad River, approximately 15 miles west of the county seat of Winnsboro and 26 miles northwest of Columbia, South Carolina. The application for the COLs was submitted by letter dated March 27, 2008, pursuant to 10 CFR Part 52. A notice of receipt of the application, which included the environmental report (ER), was published in the Federal Register on July 9, 2008, (73 FR 39339). A notice of acceptance for docketing of the COLs application was published in the Federal Register on August 6, 2008, (73 FR 4572). A notice of intent to prepare a draft environmental impact statement (DEIS) and to conduct the scoping process was published in the Federal Register on January 5, 2009, (74 FR 323).

The purpose of this notice is to inform the public that NUREG-1939 is available for public inspection. The DEIS can be accessed (1) Online at http://www.nrc.gov/reactors/new-reactors/col/summer.html, (2) in the U.S. Nuclear Regulatory Commission's (NRC's) Public Document Room (PDR) located at One White Flint North, 11555 Rockville Pike (first floor), Public File Area O1-F21, Rockville, Maryland, 20852, or (3) from NRC's Agencywide Documents Access and Management System (ADAMS). ADAMS is accessible from the NRC Web site at http://www.nrc.gov/reading-rm/adams.html. The accession numbers for the DEIS are ML101000010 and ML101000011. Persons who do not have access to ADAMS, or who encounter problems accessing the documents located in ADAMS, should contact the PDR reference staff at 1-800-397-4209 or 301-415-4737, or by e-mail to pdr.resource@nrc.gov. In addition, the Fairfield County Library, located at 300 Washington Street, Winnsboro, South Carolina, 29180, has agreed to make the DEIS available to the public.

Any interested party may submit comments on the DEIS for consideration by the NRC staff. Comments may be accompanied by additional relevant information or supporting data. This draft report is being issued with a 75-day comment period. The comment period begins on the date that the U.S. Environmental Protection Agency publishes a Notice of Filing in the Federal Register which is expected to be April 23, 2010; such Notices are published every Friday. Comments submitted via e-mail should be sent to Summer.COLEIS@nrc.gov. All comments should be sent no later than July 06, 2010. Written comments on the DEIS should be mailed to the Chief, Rules, Announcements, and Directives Branch, Division of Administrative Services, Office of Administration, Mailstop TWB-05-B01M, U.S. Nuclear Regulatory Commission, Washington, DC 20555-0001 or sent by fax to (301) 492-3446, and should cite the publication date and page number of this Federal Register Notice. Comments submitted in writing or in electronic form will be posted on the NRC Web site and on the Federal rulemaking Web site regulations.gov. Because comments will not be edited to remove any identifying or contact information, the NRC cautions individuals against including any information that they do not want to be publicly disclosed. The NRC requests that any party soliciting or aggregating comments received from other persons for submission to the NRC inform those persons that the NRC will not edit their comments to remove any identifying or contact information, and therefore, they should not include any information in their comments that they do not want publicly disclosed.

To be considered, written comments should be postmarked by the end date of the comment period.

The NRC and USACE staff will hold two public meetings to present a brief overview of the DEIS and to accept public comments on the document on Thursday, May 27, 2010, at the White Hall AME Church, 8594 State Highway 215 South, Jenkinsville, South Carolina. The first meeting will convene at 12 p.m. and will continue until 4 p.m., as necessary. The second meeting will convene at 6 p.m., with a repeat of the overview portions of the first meeting, and will continue until 10 p.m., as necessary. The meetings will include: (1) Brief presentations of the contents of the DEIS and (2) the opportunity for interested government agencies, organizations, and individuals to provide comments on the draft report. In addition, the NRC and USACE staffs will host informal discussions for the first two hours of each meeting. To be considered, comments must be provided orally to an NRC-designated court reporter, in writing, or during the transcribed portion of the meeting.

Persons may pre-register to attend or present oral comments at the meeting by contacting Ms. Patricia Vokoun at 1-800-368-5642, extension 3470, or by e-mail at Patricia.Vokoun@nrc.gov no later than May 24, 2010. Members of the public may also register to speak at the meetings within 15 minutes of the start of each meeting. Individual oral comments may be limited by the time available, depending on the number of persons who register. Members of the public who have not registered may also have an opportunity to speak, if time permits. If special equipment or accommodations are needed to attend or present information at the public meeting, Ms. Patricia Vokoun should be contacted no later than May 12, 2010, so that the NRC staff can determine whether the request can be accommodated.

FOR FURTHER INFORMATION CONTACT: Ms. Patricia Vokoun, Environmental Projects Branch 2, Division of Site and Environmental Reviews, Office of New Reactors, U.S. Nuclear Regulatory Commission, Mail Stop T7-E30, Washington, DC, 20555-0001. Ms. Vokoun may also be contacted at the aforementioned telephone number or e-mail address.

Dated at Rockville, Maryland, this 15th day of April 2010.
For the Nuclear Regulatory Commission.
Scott C. Flanders,
Director, Division of Site and Environmental Reviews, Office of New Reactors.

[FR Doc. 2010-9296 Filed 4-22-10; 8:45 am]

BILLING CODE 7590-01-P